DEPARTMENT OF TRANSPORTATION

Coast Guard

33 CFR Part 117

[CGD08-01-019]

Drawbridge Operating Regulation; Ouachita River, LA

AGENCY: Coast Guard, DOT.

ACTION: Notice of temporary deviation from regulations.

SUMMARY: The Commander, Eighth Coast Guard District has issued a temporary deviation from the regulation in 33 CFR 117.5 governing the operation of the Kansas City Southern Railroad swing span bridge across the Ouachita River, mile 167.1, at Monroe, Ouachita Parish, Louisiana. This deviation allows the bridge owner to close the bridge to navigation from noon on Sunday, August 19, 2001 until noon on Tuesday, August 21, 2001. Presently, the draw is required to open on signal for the passage of vessels. This temporary deviation was issued to allow for repairs to the turn span of the bridge.

DATES: This deviation is effective from noon on August 19, 2001 until noon on August 21, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: The Kansas City Southern Railroad swing span bridge across the Ouachita River, mile 167.1, at Monroe, Ouachita Parish, Louisiana has a vertical clearance of 2 feet above high water in the closed-to-navigation position and 52 feet above high water in the open-to-navigation position. Navigation on the waterway consists primarily of tugs with tows. Modjeski and Masters, consulting engineers for the Kansas City Southern Railroad requested a temporary deviation from the normal operation of the drawbridge in order to accommodate the jacking of the swing span at the center and ends (bridge in the closed position) sufficient to raise the center circular turning track several inches to improve the opening and closing of the swing span. This maintenance is necessary for the continued operation of the bridge.

This deviation allows the draw of Kansas City Southern Railroad swing span bridge across the Ouachita River, mile 167.1, to remain closed to navigation from noon on August 19, 2001 until noon on August 21, 2001.

Dated: July 26, 2001.
Roy J. Casto,
RADM, USCG, Commander, 8th CG District.

[FR Doc. 01-19333 Filed 8-1-01; 8:45 am]

BILLING CODE 4910-15-P